DEPARTMENT OF TRANSPORTATION

Office of the Secretary

Notice of Applications for Certificates of Public Convenience and Necessity and Foreign Air Carrier Permits Filed Under Subpart B (Formerly Subpart Q) During the Week Ending March 20, 2010

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0067.

Date Filed: March 18, 2010.

Due Date for Answers, Conforming Applications, or Motion to Modify Scope: April 8, 2010.

Description: Application of Virgin America Inc. requesting a certificate of public convenience and necessity to engage in foreign scheduled air transportation of persons and mail between the United States and Canada.

Docket Number: DOT-OST-2010-0071.

Date Filed: March 19, 2010.

Due Date for Answers, Conforming Applications, or Motion to Modify Scope: April 9, 2010.

Description: Application of White Airways, S.A. (“White”) requesting a foreign air carrier permit that will enable White to engage in: (i) Foreign charter air transportation of persons, property and mail from any point or points behind any Member State of the European Union, via any point or points in any Member State and via intermediate points to any point or points in the United States and beyond; (ii) foreign charter air transportation of persons, property and mail between any point or points in the United States and any point or points in any member of the European Common Aviation Area; and (iii) other charters. White also requests renewal of its exemption authority to enable White to engage in the above-described operations pending issuance of its foreign air carrier permit.

Renee V. Wright,
Program Manager, Docket Operations, Federal Register Liaison.

[FR Doc. 2010-7176 Filed 3-30-10; 8:45 am]

BILLING CODE 4910-9X-P